DEPARTMENT OF HEALTH AND HUMAN SERVICES

Administration for Community Living

Agency Information Collection Activities: Proposed Collection; Public Comment Request; for the National Center on Law and Elder Rights—Resource Support and User Satisfaction Information Collection (OMB Control Number 0985-0060)

AGENCY: Administration for Community Living, Health and Human Services (HHS).

ACTION: Notice.

SUMMARY: The Administration for Community Living (ACL) is announcing an opportunity for the public to comment on the proposed collection of information listed above. Under the Paperwork Reduction Act of 1995 (PRA), Federal agencies are required to publish a notice in the Federal Register concerning each proposed collection of information, including each proposed extension of an existing collection of information, and to allow 60 days for public comment in response to the notice. This Information Collection (IC) extension solicits comments on the information collection requirements relating to the National Center on Law and Elder Rights—Resource Support and User Satisfaction information collection (OMB Control Number 0985-0060).

DATES: Comments on the collection of information must be submitted electronically by 11:59 p.m. (ET) or postmarked by January 7, 2025.

ADDRESSES: Submit electronic comments on the collection of information to: Sara Planthaber at Sara.Planthaber@acl.hhs.gov. Submit written comments on the collection of information to Administration for Community Living, 330 C Street SW, Washington, DC 20201, Attention: Sara Planthaber.

FOR FURTHER INFORMATION CONTACT: Sara Planthaber, email Sara.Planthaber@acl.hhs.gov or by phone at (202) 795-7365.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. The PRA requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including using automated collection techniques when appropriate, and other forms of information technology.

The National Center on Law and Elder Rights—Resource Support and User Satisfaction information collection is authorized through legal assistance programs under section 420—Demonstration and Support Projects for Legal Assistance for Older Individuals—of the Older Americans Act (OAA). Section 420(a)(1) is intended to create a national legal assistance support system to assist states and area agencies on aging in providing, developing, or supporting legal assistance for older individuals. ACL contracts with the National Center on Law and Elder Rights (NCLER), to provide the required services. Through the NCLER contract, ACL provides aging, disability, and related legal professionals with training, complex case consultations and support for demonstration projects regarding contractually identified priority legal topics. When legal and aging/disability providers request legal training, case consultation, or technical assistance, NCLER asks a series of basic questions related to service requests and follow-up surveys which properly assess resource support needs, audience targeting, participant satisfaction, and outcomes of the training and technical assistance delivered.

The purpose of the information requested is for ACL to ensure that NCLER creates and prioritizes the training, case consultations, and technical assistance resources it is contracted to provide and to ensure the resource center targets designated aging and disability network practitioners about the priority subject matters. This approach enables ACL to make data-informed decisions about deployment of its resource center assets.

Section 2—Descriptions and Specifications (Objective 7) under the NCLER contract addresses performance outcome measurement of the services provided. The contractor is required to achieve anticipated outcomes as measured by a series of performance indicators. Section 2.8 of the NCLER contract references the Quality Assurance Surveillance Plan (QUASP) and sets forth the performance indicators. The information collected by the contractor from recipients of resource support through NCLER will be provided to ACL in a report submitted annually to determine contractual compliance in view of requirements in the QUASP.

These data are necessary for ACL to evaluate contractual compliance with established performance indicators under the NLCER contract (Section 2—Descriptions and Specifications—Objective 7) and delineated in the QUASP. These metrics include quantifiable increases in uptake by stakeholders of training, case consultation and technical assistance, and measures of satisfaction with and perceived benefit from these services. For example, the metrics measure successful problem resolution because of the services provided, and present quantifiable data on the fulfillment of requests for training, technical assistance, and consultation related to contractually designated legal and systems development topic areas. The information requested by ACL from legal, aging, and disability professionals falls into the following areas: (1) requests for training, case consultation, and technical assistance through an online, secure Uniform Resource Support Request Tool (URSRT); general requests for legal training (including the volume of webinar registrations), case consultation and technical assistance; and (2) information about satisfaction and use of the services and support received in order to enable ACL to measure performance outcomes.

Resource Support Requests

ACL proposes (through NCLER) to ask aging/disability service providers and legal service providers who may need various forms of resource support a series of questions regarding appropriate delivery of needed assistance in a targeted and efficient manner.

These questions will be presented through a web based URSRT that will be used for soliciting and accepting requests for legal training, case consultation, and technical assistance.

Legal Training, Case Consultation, Technical Assistance Requests

ACL proposes to ask legal and aging/disability providers who request legal training, case consultation, or technical assistance (through the NCLER website using the URSRT) for background information and the following substantive data:

• Type of Organization (Title III-B attorney, Legal Services Corporation attorney, other legal services attorney, other elder law attorney, other legal services professional, aging and/or disability network professional, other); and

• Services requested: (legal training, case consultation, technical assistance on legal services delivery, or general information).

Performance Outcome Measurement

ACL proposes to ask legal and aging/disability providers who request legal training, case consultation, or technical assistance the following series of survey questions in order to properly assess audience targeting, participant satisfaction, and anticipated outcomes of the training and technical assistance delivered:

• Type of Organization (Title III-B attorney, Legal Services Corporation attorney, other legal services attorney, other elder law attorney, other legal services professional, aging and/or disability network professional, and other job title (e.g., executive director, management, staff attorney, counselor);

• Please rank the quality of assistance provided in this (legal training/case consultation/technical assistance);

• Did the assistance provided by this (legal training/case consultation/technical assistance) contribute to a successful resolution of a specific client issue?

• If requesting assistance on legal services delivery, will the assistance provided contribute to the successful completion of legal needs and capacity assessments, legal services delivery plans, legal service delivery guidelines, or data collection/reporting systems?

These questions will be presented through a web-based User Satisfaction Form that will be used for accepting user feedback on the legal training, case consultation, and technical assistance received through NCLER. The information under all categories will be collected by NCLER and provided to ACL's Office of Elder Justice and Adult Protective Services (OEJAPS) on a regular basis through the submittal of monthly reports and an annual report. The data will be reviewed by ACL and analyzed for the following programmatic purposes:

To determine the resource support requested and legal issues presented: Section 420(a) of the OAA and the NCLER contract require that professionals within the aging network have access to resource support in the form of training, case consultations, and technical assistance in the development of legal assistance delivery systems. The information collected on requests for resource support from aging and disability networks will be analyzed to determine resource needs in legal subject matter areas and systems development topics indicated by the target audience. The information collected will be used by ACL and the Contract Officer Representative (COR) to tailor the resource support provided through the NCLER contract to the ongoing and emerging priority needs of aging and disability networks.

To determine effectiveness in reaching intended target audience: The NCLER contract and OAA section 420(a) requires that support services are provided to specific groups of providers within the aging and disability networks. The audience in need of comprehensive resource support through NCLER includes a broad range of legal, elder rights, and aging/disability services professionals, advocates, and organizations. These include legal assistance providers, legal assistance developers, long-term care ombudsmen, adult protective services, state units on aging, area agencies on aging, aging and disability resource centers, and others involved in protecting the legal rights of older persons. The information collected on requests for resource support from aging and disability networks will be reviewed and analyzed by ACL and the COR to determine whether the appropriate target audiences are requesting and receiving resource support through NCLER. ACL and the COR will also use the information to determine if the use of resource support through NCLER by intended target audiences is increasing at a set percentage annually in compliance with contractual performance indicators.

To determine the quality of legal resource support provided: The NCLER contract performance indicators require that the quality of resource support provided be measured through voluntary recipient feedback. The Contractor is required to assure that a set percentage of recipients of resource support responding to evaluative tools will rate the quality of the assistance provided as good to excellent. The Contractor will have processes in place to ensure the integrity of information received by target audience. The information collected on quality of resource support received by target audiences will be analyzed by ACL and the COR to determine whether minimum performance standards are met and whether necessary actions need to be taken to improve the quality of resource support provided through NCLER.

To determine the usefulness of resource support provided: The NCLER contract performance indicators require the anticipated usefulness of resource support provided be measured through voluntary recipient feedback. The Contractor is required to assure that a set percentage of recipients of resource support responding to evaluative tools will agree or strongly agree that the assistance provided contributed to the successful resolution of a specific legal issue.

The information collected on the usefulness of resource support received by target audiences will be analyzed by ACL and the COR to determine whether minimum performance standards are met and whether necessary actions need to be taken to improve the practical usefulness of resource support provided through NCLER.

The data collected will be reviewed by the COR on monthly basis through contractually required monthly reports provided by NCLER. Review of the data will be the focus of monthly calls with the Contractor to guide ongoing program improvements and adjustments as directed by the COR. The data will also be incorporated into the contractually required Summary of Stakeholder Input Document (SSID) designed to guide the ongoing evolution and improvement of NCLER into subsequent contract option years. The data will also be compiled in a final annual report provided by the Contractor and reviewed by the COR against the QUASP to determine contractual compliance.

This IC does not collect demographic data from grantees receiving programs and services funded by HHS. This includes guidance specific to the collection of sexual orientation and gender identity items that align with Executive Order 13985 on Advancing Racial Equity and Support for Underserved Communities Through the Federal Government, Executive Order 14075 on Advancing Equality for Lesbian, Gay, Bisexual, Transgender, Queer, and Intersex Individuals, and Executive Order 13988 on Preventing and Combating Discrimination on the Basis of Gender Identity and Sexual Orientation, and the updated Statistical Policy Directive No. 15: Standards for Maintaining, Collecting, and Presenting Federal Data on Race and Ethnicity (effective March 28, 2024).

The proposed data collection tools may be found on the ACL website for review at: https://www.acl.gov/about-acl/public-input.

Estimates of Burden: Burden calculation for each category of information:

Respondent/data collection activity | Number of respondents | Minutes per response | Annual burden hours
Resource Support Requests | 80 | 2 | 2.53
Legal Training, Case Consultation, Technical Assistance Requests-User Satisfaction | 14,000 | 2 | 397
Total | 14,080 | 4 min 39 sec | 399.53 hours

Dated: November 4, 2024.
Maura Calsyn,
Principal Deputy Administrator for the Administration for Community Living, performing the delegable duties of the Administrator and the Assistant Secretary for Aging.

[FR Doc. 2024-25931 Filed 11-7-24; 8:45 am]

BILLING CODE 4154-01-P